DEPARTMENT OF DEFENSE

Department of the Army

Performance Review Boards Membership

AGENCY: Department of the Army, DoD.

ACTION: Notice.

SUMMARY: Notice is give of the names of members of a Performance Review Board for the Department of the Army.

EFFECTIVE DATE: December 11, 2001.

FOR FURTHER INFORMATION CONTACT: David Stokes, U.S. Army Senior Executive Service Office, Assistant Secretary of the Army, Manpower & Reserve Affairs, 111 Army, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the U.S. Army Corps of Engineers are:

1. MG Hans Van Winkle (chair).

2. Dr. Lewis Link (alternative chair).

3. BG Carl Strock.

4. BG Peter Madsen.

5. Mr. Fred Caver.

6. Ms. Linda Garvin.

7. Mr. Joe Tyler.

8. Mr. Rob Vining.

9. Mr. Steve Browning.

10. Mr. Louis Carr.

Luz D. Ortiz,
Army Federal Register, Liaison Officer.

[FR Doc. 01-27868 Filed 11-5-01; 8:45 am]

BILLING CODE 3710-08-M